ENVIRONMENTAL PROTECTION AGENCY

40 CFR Part 98

[EPA-HQ-OAR-2023-0234; FRL-10246-03-OAR]

RIN 2060-AV49

Greenhouse Gas Reporting Rule: Revisions and Confidentiality Determinations for Petroleum and Natural Gas Systems; Correction

AGENCY: Environmental Protection Agency (EPA).

ACTION: Final rule; correction and correcting amendments.

SUMMARY: The Environmental Protection Agency (EPA) is correcting a final rule published in the Federal Register on May 14, 2024. The final rule amended requirements that apply to the petroleum and natural gas systems source category of the Greenhouse Gas Reporting Rule to ensure that reporting is based on empirical data, accurately reflects total methane emissions and waste emissions from applicable facilities and allows owners and operators of applicable facilities to submit empirical emissions data that appropriately demonstrate the extent to which a charge is owed under the Waste Emissions Charge. This document corrects inadvertent errors introduced in preparing the amendatory regulatory text for the final rule or in preparing the signed final rule for publication. These corrections do not result in any substantive changes to the final rule.

DATES: The Federal Register corrections, numbers 1.a through 1.ff and 2.a through 2.q, are effective January 1, 2025. The correcting amendments in instructions 2 and 3, correcting §§ 98.233 and 98.236, respectively, are effective October 4, 2024.

ADDRESSES: EPA has established a docket for this action under Docket ID No. EPA-HQ-OAR-2023-0234. Publicly available docket materials are available either electronically at www.regulations.gov or in hard copy at Air and Radiation Docket and Information Center, EPA Docket Center, EPA/DC, EPA WJC West Building, 1301 Constitution Ave. NW, Room 3334, Washington, DC.

FOR FURTHER INFORMATION CONTACT: Jennifer Bohman, Climate Change Division, Office of Atmospheric Protection (MC-6207A), Environmental Protection Agency, 1200 Pennsylvania Ave. NW, Washington, DC 20460; telephone number: (202) 343-9548; email address: GHGReporting@epa.gov.

SUPPLEMENTARY INFORMATION: The EPA is correcting inadvertent errors in the regulatory text of the final rule as described in this section. These corrections are necessary to be consistent with the May 14, 2024 final rule (89 FR 42062) (hereafter referred to as the “final rule”), the redline-strikeout version of the final regulatory text in the docket for the final rule (hereinafter referred to as “final rule redline-strikeout”) (Docket ID No. EPA-HQ-OAR-2023-0234-0459), and the preamble for the August 1, 2023 proposed rulemaking (88 FR 50282) (hereafter referred to as the “proposed rule”). Under the Administrative Procedure Act (APA)'s good cause exception, 5 U.S.C. 553(b)(B), it is unnecessary to take public comment on these technical, non-substantive corrections.

The EPA is correcting 40 CFR 98.233(a)(2) to add “as applicable” after “well-pad site, gathering and boosting site, or facility” to clarify the reporting level. The “as applicable” language was used in the preamble to the final rule (89 FR 42107 and 42108, May 14, 2024), where the EPA discussed finalizing requirements for Calculation Method 2 in 40 CFR 98.233(a)(2) to allow reporters to measure the natural gas emissions from each pneumatic device vented directly to the atmosphere at the well-pad site, gathering and boosting site, or facility, as applicable. The “as applicable” phrase was also correctly included in the final rule redline-strikeout.

The EPA is correcting 40 CFR 98.233(a)(2)(iii) and (c)(2)(ii) to remove the extraneous instance of “representative” from “measure the emissions under representative conditions representative of normal operations.” The corrected text reads “measure the emissions under conditions representative of normal operations.” This phrase was correct in 40 CFR 98.233(a)(2)(iii) and (c)(2)(ii) in the final rule redline-strikeout. The correct phrase (without the duplicate “representative”) also appears in the final amended regulation two times, in the versions of 40 CFR 98.233(a)(2)(iii) and (c)(2)(ii) that were effective on July 15, 2024 (89 FR 42224 and 42228, respectively, May 14, 2024).

The EPA is correcting 40 CFR 98.233(a)(2)(v)(A)(2) to replace an incorrect cross-reference to “paragraph (a)(6) of this section” with the correct cross-reference to “paragraph (a)(7) of this section.” The EPA proposed to reference “paragraph (a)(6)” in the Proposed Rule, in which 40 CFR 98.233(a)(6) was “Type of natural gas pneumatic devices” (88 FR 50384, August 1, 2023). In the final amendments, the “Type of natural gas pneumatic devices” paragraph is 40 CFR 98.233(a)(7) (89 FR 42242, May 14, 2024). The cross-reference to “paragraph (a)(7) of this section” was correct in the final rule redline-strikeout. In addition, the correct paragraph reference appears in the version of 40 CFR 98.233(a)(2)(v)(A)(2) that became effective on July 15, 2024 (89 FR 42224, May 14, 2024). All other references to this section are correct.

The EPA is correcting the version of 40 CFR 98.233(a)(3)(ii)(A) that became effective on July 15, 2024 (89 FR 42226, May 14, 2024) to replace an incomplete cross-reference to “§ 98.234(a)(1) through (3)” with the correct cross-reference to “§ 98.234(a)(1) through (3), (6), and (7).” The paragraphs that are cross-referenced in the final rule and the redline-strikeout version of the final regulatory text effective July 15, 2024 in the docket for the final rule (Docket ID No. EPA-HQ-OAR-2023-0234-0460) correspond to the amended version of 40 CFR 98.234 that will be effective on January 1, 2025. However, the amendments to 40 CFR 98.234 that will be effective on January 1, 2025 consolidate current 40 CFR 98.234(a)(6) into 40 CFR 98.234(a)(1) and consolidate current 40 CFR 98.234(a)(7) into 40 CFR 98.234(a)(2). Therefore, the EPA is correcting the cross-referenced paragraphs in the version of 40 CFR 98.233(a)(3)(ii)(A) that became effective on July 15, 2024 so that all of the available methods are correctly referenced.

The EPA is correcting 40 CFR 98.233(c)(1) to replace an incorrectly formatted cross-reference to “§ 98.234(b) of this subpart” with the correct cross-reference to “§ 98.234(b).” The cross reference as published does not follow the cross-reference requirements specified by the Office of the Federal Register. The cross-reference to “§ 98.234(b)” was correct in the final rule redline-strikeout.

The EPA is correcting 40 CFR 98.233(d) to replace an incorrect cross-reference to “paragraphs (d)(5) through (11) of this section” with the correct cross-reference to “paragraphs (d)(5) through (12) of this section.” The EPA specified in both the preamble to the Proposed Rule (88 FR 50304, August 1, 2023) and the preamble to the final rule (89 FR 42091, May 14, 2024) that the emission calculation methodologies for nitrogen removal units are identical to the existing calculation methodologies in 40 CFR 98.233(d) for acid gas removal units (AGR). 40 CFR 98.233(d)(10) (revised to 40 CFR 98.233(12)) describes how to calculate mass emissions and is part of the existing calculation methods for AGRs. Per 40 CFR 98.236(a), reporters are required to report annual emissions totals, in metric tons of each GHG, for each applicable emission source. The final step in calculating mass emissions for AGRs and NRUs is specified in 40 CFR 98.233(d)(12) (existing 40 CFR 98.233(d)(10)) and is currently required by subpart W reporters with AGRs. The cross-reference to “paragraphs (d)(5) through (12) of this section” was correct in the final rule redline-strikeout.

The EPA is correcting 40 CFR 98.233(e)(2) to restore the paragraph label “Calculation Method 2,” which was inadvertently omitted from the republished version of 40 CFR 98.233. There were edits to this paragraph in the final rule, but the removal of the paragraph label was not included in the signed final rule and instead this error was introduced in preparing the signed final rule for publication. The paragraph label was correct in the final rule redline-strikeout.

The EPA is correcting 40 CFR 98.233(e) to add “or to other non-flare combustion units” after “routed to a regenerator firebox/fire tubes,” correcting 40 CFR 98.233(e)(4) to add “or other non-flare combustion unit” after “to a flare” and to replace the phrase “vapor recovery system or flare” with “vapor recovery system, flare, or other non-flare combustion unit,” correcting 40 CFR 98.233(e)(4)(iii) to replace “regenerator firebox/fire tubes” with “other non-flare combustion unit” and to replace the phrase “vapor recovery system or flare” with “vapor recovery system, flare, or other non-flare combustion unit,” and correcting 40 CFR 98.233(e)(5)(ii)(B) and (iv) to add “or other non-flare combustion unit” after “regenerator firebox/fire tubes.” These corrections are consistent with the preamble to the final rule (89 FR 42124, May 14, 2024), where we discussed our intent to finalize an amendment consistent with public comment to replace all proposed references to regenerator firebox/fire tubes in 40 CFR 98.236(e)(3) with references to non-flare combustion units, as commenters noted that desiccant dehydrators are not known to have configurations with regenerator firebox/fire tubes. The preamble to the final rule also described conforming changes in 40 CFR 98.233(e)(5) to specify procedures for calculating emissions from non-flare combustion units used with desiccant dehydrators that are the same as the procedures for calculating emissions from regenerator fireboxes/fire tubes that are used with small glycol dehydrators. The EPA is also correcting 40 CFR 98.233(e)(4)(i) to replace the phrase “vapor recovery system or flare” with “vapor recovery system, flare, or regenerator firebox/fire tubes” and correcting the first sentence 40 CFR 98.233(e)(5) to remove the phrase “or other non-flare combustion unit.” These corrections are needed because these provisions apply to glycol dehydrators rather than desiccant dehydrators, and glycol dehydrators do have regenerator fireboxes/fire tubes. The phrase “or other non-flare combustion unit” was correctly included in the final rule redline-strikeout in 40 CFR 98.233(e)(5)(ii)(B) and (e)(5)(iv); the final rule redline-strikeout did not include any of the other conforming corrections.

The EPA is correcting 40 CFR 98.233(f)(1)(i)(B) to correct a grammatical error in the phrase “hours of each well is venting to the atmosphere” The revised text reads “hours that each well is vented to the atmosphere.” This is a correction of a typographical grammar error; there is no change to the meaning of the provision. This typographical error is only partially corrected in the final rule redline-strikeout, in which the phrase reads “hours of each well is vented to the atmosphere.”

The EPA is correcting the version of 40 CFR 98.233(g) that became effective on July 15, 2024 (89 FR 42226, May 14, 2024) to remove an unnecessary term of “÷ 2” in equations W-10A and W-10B. The inclusion of this term is redundant in both equations due to the addition of term “Zp,i” to allow use of multiphase flow meters to measure gas flow rates during the initial flowback stage as an alternative to assuming the flowrate is one half the flow rate at the beginning of separation, as stated in the preamble to the final rule (89 FR 42132, May 14, 2024). The amendments to 40 CFR 98.233(g) that will be effective on January 1, 2025 correctly present equations W-10A and W-10B without the inclusion of a “÷ 2” term and with the addition of the same term “Zp,i” . Therefore, the EPA is correcting equations W-10A and W-10B to remove the “÷ 2” that was inadvertently retained in the version of 40 CFR 98.233(g) that became effective on July 15, 2024 so that the equations are correct.

The EPA is correcting 40 CFR 98.233(j)(4)(i)(C) and 98.236(j)(1)(x)(F) to remove the reference to a thief hatch that is “not properly seated.” The correction is consistent with the EPA's intent to remove from the proposed provisions the phrase “not properly seated” in 40 CFR 98.233(j)(4)(i)(C) through (D) and 40 CFR 98.233(j)(4)(ii) and instead specify that a thief hatch is open if it is fully or partially open such there is a visible gap between the hatch cover and the hatch portal, as stated in the preamble to the final rule (89 FR 42132, May 14, 2024). The phrase “not properly seated” was correctly not included in 40 CFR 98.233(j)(4)(i)(C) or 98.236(j)(1)(x)(F) in the final rule redline-strikeout.

The EPA is correcting 40 CFR 98.233(j)(5)(i) and (j)(5)(i)(B) to replace the requirement for a “visual inspection” with “audio, visual, and olfactory inspection.” The correction is consistent with the EPA's intent to require audio, visual, and olfactory (AVO) inspections in 40 CFR 98.233(j)(5) rather than just visual inspections to determine if a gas-liquid separator liquid dump valve is stuck in an open or partially open position, as stated in the preamble to the final rule (89 FR 42133, May 14, 2024). The phrase “audio, visual, and olfactory inspection” was correctly included in 40 CFR 98.233(j)(5)(i) or (j)(5)(i)(B) in the final rule redline-strikeout.

The EPA is correcting 40 CFR 98.233(n)(1)(ii)(A) to replace the cross-reference to “§ 60.5413b of this chapter” with a more specific correct cross-reference to “§ 60.5413b(b) of this chapter.” This correction is consistent with the EPA's stated intent in the preamble to the final rule (89 FR 42145, May 14, 2024), in which the EPA agreed with a commenter on the Proposed Rule that pointed out the proposed Tier 2 requirements for flares should include a cross- reference to the applicable section in 40 CFR part 60, subpart OOOOb (hereafter referred to as “NSPS OOOOb”) that specifies performance test requirements for enclosed combustion devices in NSPS OOOOb (i.e., a subset of the total flare population under subpart W). The preamble to the final rule indicated that the oversight was corrected in 40 CFR 98.233(n)(1)(ii)(A) and 40 CFR 98.233(n)(1)(ii)(C) of the final amendments by including cross-references to 40 CFR 60.5413b(b) and (d) that require facilities to either conduct testing of enclosed combustion devices themselves or have testing conducted by the enclosed combustion device manufacturer. The cross-reference to “§ 60.5413b(b) of this chapter” was correct in the final rule redline-strikeout.

The EPA is correcting 40 CFR 98.233(n)(1)(ii)(B) to replace an incorrect cross-reference to “§ 60.5417b(b) of this chapter” with the correct cross-reference to “§ 60.5417b of this chapter.” 40 CFR 60.5417b describes the continuous monitoring requirements while the more specific reference to 40 CFR 60.5417b(b) lists the control devices that are exempt from the requirements. The correction is consistent with the EPA's intent for open flares to require that the NSPS OOOOb requirements in 40 CFR 60.5412b(a)(3) be followed, along with the applicable continuous compliance and continuous monitoring requirements in 40 CFR 60.5415b(f) and 40 CFR 60.5417b, respectively, as stated in the preamble to the final rule (89 FR 42140, May 14, 2024). The cross-reference to “§ 60.5417b of this chapter” was correct in the final rule redline-strikeout.

The EPA is correcting 40 CFR 98.233(o)(6)(iii) to restore equation W-23, which was inadvertently omitted from the republished version of 40 CFR 98.233. No changes to this equation were included in the signed final rule and instead this error was introduced in preparing the signed final rule for publication. The final rule redline-strikeout correctly included equation W-23.

The EPA is correcting 40 CFR 98.233(p)(4)(ii) to restore paragraphs (A) and (B), which were inadvertently omitted from the republished version of 40 CFR 98.233. No changes to these paragraphs were included in the signed final rule and instead this error was introduced in preparing the signed final rule for publication. The final rule redline-strikeout correctly included 40 CFR 98.233(p)(4)(ii)(A) and (B).

The EPA is correcting 40 CFR 98.233(q)(1)(v)(B) to add “or § 60.5401b” after “§ 60.5400b” to include both cross-references. This correction is consistent with the EPA's intent to update the cross references in the subpart W final rule to the NSPS OOOOb to include 40 CFR 60.5401b for natural gas processing in 40 CFR 98.232(d)(7), 98.233(q)(1)(v), 98.233(q)(1)(vii)(F), and 98.236(q)(1)(iv)(D), as stated in the preamble to the final rule (89 FR 42172, May 14, 2024). The cross-reference to 40 CFR 60.5401b was correct in the final rule redline-strikeout.

The EPA is correcting 40 CFR 98.233(q)(1)(vii)(D) to add “site, as defined in § 98.238,” after “single well-pad” to clarify what is considered a complete leak detection survey. The use of the term “well-pad site” is consistent with the rest of the amendments in the final rule. In addition, the EPA stated in the preamble to the final rule (89 FR 42164, May 14, 2024) that for the Onshore Petroleum and Natural Gas Production industry segment, final 40 CFR 98.233(q)(1) specifies that a complete leak detection survey is a complete survey of all equipment on a single well-pad site. The reference to a “single well-pad site, as defined in § 98.238” was correct in the final rule redline-strikeout.

The EPA is correcting 40 CFR 98.233(q)(1)(vii)(G), the parameter “n” of equation W-31 in 40 CFR 98.233(q)(2)(x)(A), and 40 CFR 98.233(q)(3)(viii)(B) to replace incorrect cross-references to “paragraph (q)(1)(vii) of this section” with the correct cross-reference to “paragraph (q)(1)(viii) of this section.” 40 CFR 98.233(q)(1)(vii)(G), the parameter “n” of equation W-31 in 40 CFR 98.233(q)(2)(x)(A), and 40 CFR 98.233(q)(3)(viii)(B) all refer to provisions for complete leak surveys for natural gas distribution facilities electing to conduct surveys over multiple years. Multi-year surveys for natural gas distribution facilities are further addressed in 40 CFR 98.233(q)(1)(viii) and not in 40 CFR 98.233(q)(1)(vii). The EPA is also correcting 40 CFR 98.233(q)(3)(viii)(B) to replace a cross-reference to non-existent “paragraph (q)(3)(vii)(A) of this section” with the correct cross-reference to “paragraph (q)(3)(viii)(A) of this section.” Natural gas distribution facilities are directed to use equation W-31 to determine the meter/regulator run population in 40 CFR 98.233(q)(3)(viii)(A). In addition, table 3 of the preamble to the final rule indicates that in 40 CFR 98.233(q)(3)(viii)(B), the EPA intended to correct the internal cross reference from “paragraph (q)(3)(vii)(A) of this section” to “paragraph (q)(3)(viii)(A) of this section” (89 FR 42191, May 14, 2024). The cross references to “paragraph (q)(1)(viii) of this section” and “paragraph (q)(3)(viii)(A) of this section” were correct in each of these sections in the final rule redline-strikeout.

The EPA is correcting the cross-references in the parameter “k” of equation W-30 in 40 CFR 98.233(q)(2) and correcting 40 CFR 98.233(q)(3)(vii) to replace cross-references to non-existent paragraphs “§ 98.234(q)(1), (3) and (5),” “§ 98.234(q)(2)(i),” and “§ 98.234(q)(2)(ii)” with correct cross-references to “§ 98.234(a)(1), (3) and (5),” “§ 98.234(a)(2)(i),” and “§ 98.234(a)(2)(ii),” respectively. The “k” term is the undetected leak factor specific to the leak detection method. The leak detection methods are in 40 CFR 98.234(a); 40 CFR 98.234(q) does not exist. These cross-references were incorrect in the amendatory regulatory text of the Proposed Rule as well as the final rule redline-strikeout; however, both the preamble to the Proposed Rule and the preamble to the final rule clearly state that the adjustment factor k is screening method-specific, which supports the intent to cross-reference the screening methods. For example, the preamble to the final rule states at 89 FR 42163, May 14, 2024 that in order to account for the quantity of emissions that remain undetected by each screening method, we are finalizing as proposed to provide a method specific adjustment factor, k, for the calculation methods used to quantify emissions from equipment leaks using the leaker method in 40 CFR 98.233(q). For all of these same reasons, the EPA is correcting similar language in the regulatory text that was effective July 15, 2024 (for Reporting Year 2024). Specifically, the EPA is correcting 40 CFR 98.233(q)(3)(vii) to replace cross-references to non-existent paragraphs “§ 98.234(q)(1), (3), and (5)” “§ 98.234(q)(2)(i),” and “§ 98.234(q)(2)(ii)” with correct cross-references to “§ 98.234(a)(1), (3), (5), and (6),” “§ 98.234(a)(2),” and “§ 98.234(a)(7),” respectively. The corrected cross-references reference the same screening methods as the corrections to the version of 40 CFR 98.233(q)(3)(vii) that will be effective January 1, 2025, but the specific cross-references are slightly different so that they correctly reference the methods in 40 CFR 98.234(a) that are currently effective rather than the version of 40 CFR 98.234(a) that will not be effective until January 1, 2025.

The EPA is correcting the parameter “GHGi” of equation W-30 in 40 CFR 98.233(q)(2) to clarify that onshore natural gas transmission pipeline facilities should use the same default GHG concentrations as natural gas distribution facilities. The correct mole fractions for the onshore natural gas transmission pipeline industry segment are specified in the final rule preamble at 89 FR 42091, May 14, 2024, where the EPA indicated that the addition of “onshore natural gas transmission pipeline” should be grouped with a methane concentration of 1 and a carbon dioxide concentration value of 0.011 in the variable “GHGi” of equation W-32A in 40 CFR 98.233(r). While the preamble to the final rule did not specifically identify this as including changes to 40 CFR 98.233(q)(2), this is a conforming edit with the preamble statement. The revision to the parameter “GHGi” of equation W-30 in 40 CFR 98.233(q)(2) was correct in the final rule redline-strikeout.

The EPA is correcting 40 CFR 98.233(q)(4)(i) to replace the incorrect cross-reference to “paragraphs (q)(1)(i) through (v) of this section” with the correct cross-references to “paragraphs (q)(1)(i) through (vi) of this section” in order for this cross-reference to include the onshore natural gas transmission pipeline facility components specified in 40 CFR 98.233(q)(1)(vi). The cross-reference to “paragraphs (q)(1)(i) through (vi) of this section” was not correct in the final rule redline-strikeout. However, this correction appropriately includes a cross-reference for transmission pipeline facilities to use the provisions to develop a facility-specific emission factor in accordance with 40 CFR 98.233(q)(4). As discussed in the preamble to the final rule (89 FR 42088, May 14, 2024), in consideration of public comments concerning the equipment leak emission sources at transmission pipeline companies and consistent with CAA section 136(h), we finalized that transmission pipeline facilities can develop a facility-specific leaker factor in accordance with 40 CFR 98.233(q)(4) using the leak measurements obtained in accordance with 40 CFR 98.233(q)(3). Our intent for the facility-specific emission factor provisions to apply to transmission pipeline facilities is also made clear in 40 CFR 98.233(q)(2)(xii), which provides that transmission pipeline facilities must use the facility-specific leaker emission factor calculated in accordance with 40 CFR 98.233(q)(4) of this section.

The EPA is correcting the parameters “Es,MR,i” and “CountMR” of equation W-32B in 40 CFR 98.233(r) introductory text to replace incorrect cross-references to “paragraph (q)(3)(vii)(B) of this section” with the correct cross-references to “paragraph (q)(3)(viii)(B) of this section.” These two variables are specific to emissions calculations for meter/regulator runs at above grade transmission-distribution transfer stations (Natural Gas Distribution industry segment). 40 CFR 98.233(q)(3)(viii)(B) is also specific to natural gas distribution, while 40 CFR 98.233(q)(3)(vii) is for the adjustment factor for undetected leaks (which is not specific to natural gas distribution). Further, 40 CFR 98.233(q)(3)(vii)(B) does not exist. The reference to a “paragraph (q)(3)(viii)(B) of this section” was correct in both parameters in the final rule redline-strikeout.

The EPA is correcting 40 CFR 98.233(s)(2)(i) to remove “and report” after “calculate” and before “emissions” to remove the reference to reporting emissions under 40 CFR 98.233 (“Calculating GHG emissions.”). This specific wording change was not discussed in the preamble to the final rule but the phrase “and report” was correctly not included in the final rule redline-strikeout.

The EPA is correcting 40 CFR 98.233(z)(2)(i)(B) to remove “CO2 content of” after “maximum” and before “higher heating value” to delete extraneous text that was inadvertently not removed. This correction is consistent with the EPA's intent to finalize in 40 CFR 98.233(z)(2) that subpart C methodologies Tier 2 or higher may be used for fuel meeting the definition of “natural gas” in 40 CFR 98.238 if it has a minimum HHV of 950 Btu/scf, a maximum HHV of 1,100 Btu/scf, and a minimum CH4 content of 70 percent by volume, as stated in preamble to the final rule (89 FR 42179, May 14, 2024). The phrase “CO2 content of” was correctly not included in the final rule redline-strikeout.

The EPA is correcting 40 CFR 98.236(b), 98.236(b)(5)(i)(A), 98.236(c)(4)(vi), (vii), and (viii), and 98.236(e)(3)(vi) to replace instances of “well-pad” with the term “well-pad site” defined in 40 CFR 98.238 for clarity in the reporting requirements. As the EPA stated in the preamble to the final rule (89 FR 42108, May 14, 2024), while the phrase “well-pads” generally refers to sites in the Onshore Petroleum and Natural Gas Production segment that would be considered a complete survey, we know there are cases when some pneumatic devices might not be on a well-pad but are still “associated with a single well-pad” (as defined in 40 CFR 98.238). In the preamble to the final rule, we noted that we finalized the use of the term “well-pad site” to ensure that the requirements to measure or monitor all pneumatic devices (or equipment leaks) at the site-level for facilities in the Onshore Petroleum and Natural Gas Production segment include such devices. We also clarified in the preamble to the final rule that the reporting requirements for sources that are not reported at the equipment level must be reported at the well-pad site level. The term “well-pad site” was correctly included in each of these paragraphs in the final rule redline-strikeout.

The EPA is correcting 40 CFR 98.236(b)(5)(ii)(C) to replace the reference to the non-existent parameter “Tm.z” in equation W-1C to § 98.233 with the correct reference to “Tmal,z” in equation W-1C to § 98.233. While the equation parameter referenced in 40 CFR 98.236(b)(5)(ii)(C) was not correct in the final rule redline-strikeout, the term “Tmal,z” is the correct parameter defined in equation W-1C. The term “Tm.z” does not exist. The EPA is correcting this reporting element in the regulatory text that was effective July 15, 2024 (for Reporting Year 2024) as well as the regulatory text that is effective January 1, 2025.

The EPA is correcting 40 CFR 98.236(e)(1)(xvi)(C) to replace the incorrect cross-reference to “paragraph (e)(4) of this section” with the correct cross-reference to “(e)(4).” In the signed final rule, the Proposed Rule and the final rule redline-strikeout, the second cross-reference was to “(e)(4)” and was included in the phrase “according to § 98.233(e)(1) and, if applicable, (e)(4).” The EPA's intention was that “§ 98.233” applied to both cross-references as it does in 40 CFR 98.236(e)(1)(xvi)(B) and (e)(3)(viii)(A) and (B), which all use the phrase “according to§ 98.233(e)(1) and, if applicable, (e)(4)” in the final rule. During preparation for publication, the reference to “(e)(4)” in 40 CFR 98.236(e)(1)(xvi)(C) was erroneously revised to “paragraph (e)(4) of this section”; 40 CFR 98.236(e)(4) is for reporting, not calculation. The corrected version restores the cross-reference as it appeared in the signed final rule, the Proposed Rule, and the final rule redline-strikeout.

The EPA is correcting 40 CFR 98.236(e)(3)(vii)(B) to replace the phrase “from the flash tank” with “routed.” This correction is consistent with the discussion in the preamble to the final rule (89 FR 42124, May 14, 2024), in which the EPA noted that flash tanks are not applicable for desiccant dehydrators, the proposed reference to flash tanks in 40 CFR 98.236(e)(3)(vii)(B) was included in error, and the final reporting requirement in 40 CFR 98.236(e)(3)(vii)(B) does not include the proposed reference to flash tanks. The phrase “routed” was correctly included in the final rule redline-strikeout.

The EPA is correcting 40 CFR 98.236(e)(3)(viii)(A) to replace the phrase “non-flare combustion units” with “non-flare combustion unit” to correct a grammatical error. This correction fixes a typographical error in the number agreement of this paragraph. The final rule redline-strikeout correctly uses the phrase “non-flare combustion unit.”

The EPA is correcting 40 CFR 98.236(l)(3)(iii) to replace the phrase “tested well(s)” with “tested well” for consistency with the requirement to report information in 40 CFR 98.236(l)(3) for each well tested. This correction fixes a typographical error in the number agreement of this paragraph. The correction to refer to a singular well is consistent with the requirement to report information in 40 CFR 98.236(l)(3) for each well tested in the final rule. The final rule redline-strikeout correctly uses the phrase “tested well” in 40 CFR 98.236(l)(3)(iii).

The EPA is correcting 40 CFR 98.236(l)(4)(iv) to remove the requirement that reporting of the data element may only be delayed if the only wells that are tested in the same basin are wildcat wells and/or delineation wells. This correction is consistent with the EPA's intent to finalize the reporting requirements for well testing to continue providing the option for the 2-year delay in reporting these data elements but to no longer require that all wells in the sub-basin be wildcat and/or delineation wells for reporters to be able to use the 2-year delay, as stated in the preamble to the final rule (89 FR 42106, May 14, 2024). This provision is correct in the final rule redline-strikeout.

The EPA is correcting 40 CFR 98.236(m)(7)(iii) to replace the phrase “continuous gas composition analyzers” with “a continuous gas composition analyzer” to correct a grammatical error. The preamble to the final rule (89 FR 42137, May 14, 2024) uses the singular “analyzer” when noting that the final reporting requirements in 40 CFR 98.236(m)(7) include, as proposed, a requirement to indicate whether a continuous flow monitor was used to measure flow rates and a continuous composition analyzer was used to measure CH4 and CO2 concentrations. The phase “a continuous gas composition analyzer” is correctly included in the final rule redline-strikeout.

The EPA is correcting 40 CFR 98.236(n)(14) to replace the incorrect cross-reference to “§ 98.233(n)(3)(i) or (ii)” with the correct cross-reference to “§ 98.233(n)(4)(i) or (ii).” Final 40 CFR 98.236(n)(14) requires reporting of the annual average mole fraction of CH4 in the feed gas to the flare. Final 40 CFR 98.233(n)(3) specifies methods for calculating flow rate while 40 CFR 98.233(n)(4) specifies methods for calculating composition. In the proposed regulatory text, 40 CFR 98.233(n)(3) specified methods for calculating composition, so the reference to 40 CFR 98.233(n)(3) in proposed 98.236(n)(14) was correct, but that reference was not updated when the paragraphs in 40 CFR 98.233(n) were re-arranged between proposal and promulgation. The cross-reference to “§ 98.233(n)(4)(i) or (ii)” is correctly included in the final rule redline-strikeout.

The EPA is correcting 40 CFR 98.236(q)(2)(iv) to replace the incorrect reference to a “site-specific emission factor” with the correct reference to a “facility-specific emission factor.” In the preamble to the final rule (89 FR 42166, May 14, 2024), we stated that we were finalizing a change from proposal to the terminology of the emission factor from “site-specific” to “facility-specific” to better characterize the application of the developed emission factor, which is to be at the facility-level based on site-level measurement data for certain industry segments. This change is also consistent with changes from the proposed rule text to the final rule text made to other instances of “site-specific” to “facility-specific” in 40 CFR 98.233(q)(4). The reference to a “facility-specific emission factor” is correctly included in the final rule redline-strikeout.

The EPA is correcting 40 CFR 98.236(z)(2) to replace the less specific reference to “natural gas meeting the criteria in § 98.233(z)” with the specific reference to “natural gas meeting the criteria in § 98.233(z)(1) or (2) or a fuel meeting the criteria in § 98.233(z)(3)” to better clarify which reporting requirements are applicable. This correction is consistent with the preamble to the final rule (89 FR 42180, May 14, 2024), in which the EPA stated that the final amendments included a new reporting requirement in 40 CFR 98.236(z)(2) specifically for RICE and GT that combust natural gas that meets the criteria of 40 CFR 98.233(z)(1) or (2) or a fuel meeting the specifications of 40 CFR 98.233(z)(3). The reference to a “natural gas meeting the criteria in § 98.233(z)(1) or (2) or a fuel meeting the criteria in § 98.233(z)(3)” is correctly included in the final rule redline-strikeout.

Finally, the EPA is correcting 40 CFR 98.236(aa)(3) to add “under the same e-GGRT identification number in the calendar year” after “subpart NN of this part” to clarify the requirements reporters must meet to no longer be required to report the quantities of natural gas received or NGLs received or leaving the gas processing plant. As the EPA stated in the preamble to the final rule (89 FR 42186, May 14, 2024), the final reporting requirements in 40 CFR 98.236(aa)(3) specify that facilities that indicate that they both fractionate NGLs and report as a supplier under subpart NN under the same e-GGRT identification number and for the same calendar year would no longer be required to report the quantities of natural gas received or NGLs received or leaving the gas processing plant. The phrase “under the same e-GGRT identification number in the calendar year” is correctly included in the final rule redline-strikeout.

Section 553(b)(B) of the APA, 5 U.S.C. 553(b)(B), provides that when an agency for good cause finds that public notice and comment procedures are impracticable, unnecessary, or contrary to the public interest, the agency may issue a rule without providing notice and an opportunity for public comment. The EPA has determined that there is good cause for making these technical corrections final without prior proposal. Such notice and opportunity for comment is unnecessary as the technical corrections are for minor typographical and other nonsubstantive errors made in preparing the amendatory regulatory text for the final rule or in preparing the signed final rule for publication, as explained in this preamble.

List of Subjects in 40 CFR Part 98

Environmental protection, Administrative practice and procedure, Air pollution control, Greenhouse gases, Reporting and recordkeeping requirements.

Corrections

Corrections to the Amendments Effective January 1, 2025

In FR Doc. 2024-08988 beginning on page 42062 in the Federal Register of Tuesday, May 14, 2024, the following corrections are made:

1. Effective January 1, 2025, in § 98.233:

a. On page 42238, in the third column, paragraph (a)(2) introductory text is corrected to read:

“(2) Calculation Method 2. Except as provided in paragraph (a)(1) of this section, you may elect to measure the volumetric flow rate of each natural gas pneumatic device vent that vents directly to the atmosphere at your well-pad site, gathering and boosting site, or facility, as applicable, as specified in paragraphs (a)(2)(i) through (ix) of this section. You must exclude the counts of devices measured according to paragraph (a)(1) of this section from the counts of devices to be measured or for which emissions are calculated according to the requirements in this paragraph (a)(2).”

b. On page 42239, in the first column, paragraph (a)(2)(iii) introductory text is corrected to read:

“(iii) For all industry segments, determine the volumetric flow rate of each natural gas pneumatic device vent (in standard cubic feet per hour) using one of the methods specified in § 98.234(b) through (d), as appropriate, according to the requirements specified in paragraphs (a)(2)(iii)(A) through (E) of this section. You must measure the emissions under conditions representative of normal operations, which excludes periods immediately after conducting maintenance on the device or manually actuating the device.”

c. On page 42239, in the second column, paragraph (a)(2)(v)(A)(2) is corrected to read:

“(2) Confirm that the device is correctly characterized as a continuous high bleed pneumatic device according to the provisions in paragraph (a)(7) of this section. If the device type was mischaracterized, recharacterize the device type and use the appropriate methods in paragraph (a)(2)(v)(B) or (C) of this section, as applicable.”

d. On page 42243, in the first column, (c)(1) introductory text is corrected to read:

“(1) Calculation method 1. If you have or elect to install a continuous flow meter that is capable of meeting the requirements of § 98.234(b) on a supply line to natural gas driven pneumatic pumps, then for the period of the year when the natural gas supply line is dedicated to any one or more natural gas driven pneumatic pumps, and each of the pumps is vented directly to the atmosphere, you must use the applicable methods specified in paragraph (c)(1)(i) or (ii) of this section to calculate vented CH4 and CO2 emissions from those pumps.”

e. On page 42243, in the third column, paragraph (c)(2)(ii) introductory text is corrected to read:

“(ii) Determine the volumetric flow rate of each natural gas driven pneumatic pump (in standard cubic feet per hour) using one of the methods specified in § 98.234(b) through (d), as appropriate, according to the requirements specified in paragraphs (c)(2)(ii)(A) through (D) of this section. You must measure the emissions under conditions representative of normal operations, which excludes periods immediately after conducting maintenance on the pump.”

f. On page 42245, beginning in the first column, paragraph (d) introductory text is corrected to read:

“(d) Acid gas removal unit (AGR) vents and Nitrogen removal unit (NRU) vents. For AGR vents (including processes such as amine, membrane, molecular sieve or other absorbents and adsorbents), calculate emissions for CH4 and CO2 vented directly to the atmosphere or emitted through a sulfur recovery plant, using any of the calculation methods described in paragraphs (d)(1) through (4) of this section, and also comply with paragraphs (d)(5) through (12) of this section, as applicable. For NRU vents, calculate emissions for CH4 vented directly to the atmosphere using any of the calculation methods described in paragraphs (d)(1) through (4) of this section, and also comply with paragraphs (d)(5) through (12) of this section, as applicable. If any AGR vents or NRU vents are routed to a flare, you must calculate CH4, CO2, and N2O emissions for the flare stack as specified in paragraph (n) of this section and report emissions from the flare as specified in § 98.236(n). If any AGR vents or NRU vents are routed through an engine (e.g., permeate from a membrane or de-adsorbed gas from a pressure swing adsorber used as fuel supplement) (i.e., routed to combustion), you must calculate CH4, CO2, and N2O emissions as specified in subpart C of this part or as specified in paragraph (z) of this section, as applicable.”

g. On page 42247, beginning in the first column, paragraph (e) introductory text is corrected to read:

“(e) Dehydrator vents. For dehydrator vents, calculate annual CH4 and CO2 emissions using the applicable calculation methods described in paragraphs (e)(1) through (5) of this section. For glycol dehydrators that have an annual average daily natural gas throughput that is greater than or equal to 0.4 million standard cubic feet per day, use Calculation Method 1 in paragraph (e)(1) of this section. For glycol dehydrators that have an annual average of daily natural gas throughput that is greater than 0 million standard cubic feet per day and less than 0.4 million standard cubic feet per day, use either Calculation Method 1 in paragraph (e)(1) of this section or Calculation Method 2 in paragraph (e)(2) of this section. If you are required to use a software program consistent with the requirements of paragraph (e)(1) of this section for compliance with Federal or state regulations, air permit requirements, or annual emissions inventory reporting for the current reporting year, you must use Calculation Method 1 to calculate annual CH4 and CO2 emissions. If emissions from dehydrator vents are routed to a vapor recovery system, you must calculate the emissions according to paragraph (e)(4) of this section. If emissions from dehydrator vents are routed to a regenerator firebox/fire tubes or to other non-flare combustion units, you must calculate CH4, CO2, and N2O annual emissions as specified in paragraph (e)(5) of this section. If any dehydrator vents are routed to a flare, you must calculate CH4, CO2, and N2O emissions for the flare stack as specified in paragraph (n) of this section and report emissions from the flare as specified in § 98.236(n).”

h. On page 42247, beginning in the third column, paragraph (e)(2) is corrected to read:

“(2) Calculation Method 2. Calculate annual volumetric emissions from glycol dehydrators using equation W-5 to this section, and then calculate the collective CH4 and CO2 mass emissions from the volumetric emissions using the procedures in paragraph (v) of this section:

Where:

Es,i = Annual total volumetric GHG emissions (either CO2 or CH4) at standard conditions in cubic feet.

EFi = Population emission factors for glycol dehydrators in thousand standard cubic feet per dehydrator per year. Use 73.4 for CH4 and 3.21 for CO2 at 60 °F and 14.7 psia.

Count = Total number of glycol dehydrators that have an annual average daily natural gas throughput that is greater than 0 million standard cubic feet per day and less than 0.4 million standard cubic feet per day for which you elect to use this Calculation Method 2.

1000 = Conversion of EFi in thousand standard cubic feet to standard cubic feet.”

i. On page 42248, in the first column, paragraphs (e)(4) introductory text and (e)(4)(i) are corrected to read:

“(4) Emissions vented directly to atmosphere from dehydrators routed to a vapor recovery system, flare, or regenerator firebox/fire tubes. If the dehydrator(s) has a vapor recovery system, routes emissions to a flare, or routes emissions to a regenerator firebox/fire tubes and you use Calculation Method 1 or Calculation Method 2 in paragraph (e)(1) or (2) of this section, calculate annual emissions vented directly to atmosphere from the dehydrator(s) during periods of time when emissions were not routed to the vapor recovery system, flare, or regenerator firebox/fire tubes as specified in paragraphs (e)(4)(i) and (ii) of this section. If the dehydrator(s) has a vapor recovery system or routes emissions to a flare or other non-flare combustion unit and you use Calculation Method 3 in paragraph (e)(3) of this section, calculate annual emissions vented directly to atmosphere from the dehydrator(s) during periods of time when emissions were not routed to the vapor recovery system, flare, or other non-flare combustion unit as specified in paragraph (e)(4)(iii) of this section.

“(i) When emissions from dehydrator(s) are calculated using Calculation Method 1 or 2, calculate vented emissions as specified in paragraph (e)(1) or (2) of this section, which represents the emissions from the dehydrator prior to the vapor recovery system, flare, or regenerator firebox/fire tubes. Calculate an average hourly vented emissions rate by dividing the vented emissions by the number of hours that the dehydrator was in operation.”

j. On page 42248, beginning in the second column, paragraph (e)(4)(iii) is corrected to read:

“(iii) When emissions from dehydrator(s) are calculated using Calculation Method 3, calculate total annual emissions vented directly to atmosphere from the dehydrator(s) during periods of time when emissions were not routed to the vapor recovery system, flare, or other non-flare combustion unit by determining of the number of depressurization events (including portions of an event) that vented to atmosphere based on engineering estimate and best available data. You must take into account periods with reduced capture efficiency of the vapor recovery system, flare, or other non-flare combustion unit. If emissions are routed to a flare but the flare is unlit, calculate emissions in accordance with the methodology specified in paragraph (n) of this section and report emissions from the flare as specified in § 98.236(n).”

k. On page 42248, in the third column, paragraph (e)(5) introductory text is corrected to read:

“(5) Combustion emissions from routing to regenerator firebox/fire tubes or other non-flare combustion unit. If any glycol dehydrator emissions are routed to a regenerator firebox/fire tubes, calculate emissions from these devices attributable to dehydrator flash tank vents or still vents as specified in paragraphs (e)(5)(i) through (iii) of this section. If any desiccant dehydrator emissions are routed to a non-flare combustion unit, calculate combusted emissions as specified in paragraphs (e)(5)(i) through (iii) of this section. If you operate a CEMS to monitor the emissions from the regenerator firebox/fire tubes or other non-flare combustion unit, calculate emissions as specified in paragraph (e)(5)(iv) of this section.”

l. On page 42249, in the first column, paragraph (e)(5)(ii)(B) is corrected to read:

“(B) Measure the composition of the gas from the dehydrator(s) to the regenerator firebox/fire tubes or other non-flare combustion unit using a continuous composition analyzer. If you continuously measure gas composition, then those measured data must be used to calculate dehydrator emissions from the regenerator firebox/fire tubes or other non-flare combustion unit.”

m. On page 42249, in the second column, paragraph (e)(5)(iv) is corrected to read:

“(iv) If you operate and maintain a CEMS that has both a CO2 concentration monitor and volumetric flow rate monitor for the combustion gases from the regenerator firebox/fire tubes or other non-flare combustion unit, you must calculate only CO2 emissions for the regenerator firebox/fire tubes or other non-flare combustion unit. You must follow the Tier 4 Calculation Method and all associated calculation, quality assurance, reporting, and recordkeeping requirements for Tier 4 in subpart C of this part (General Stationary Fuel Combustion Sources). If a CEMS is used to calculate emissions from a regenerator firebox/fire tubes or other non-flare combustion unit, the requirements specified in paragraphs (e)(5)(ii) and (iii) of this section are not required.”

n. On page 42250, beginning in the first column, paragraph (f)(1)(i)(B) is corrected to read:

“(B) Apply the average hourly flow rate calculated under paragraph (f)(1)(i)(A) of this section to each well in the same pressure group that have the same tubing diameter group, for the number of hours that each well is vented to the atmosphere.”

o. On page 42258, beginning in the second column, paragraph (j)(4)(i)(C) is corrected to read:

“(C) During periods when a thief hatch is open and emissions from the tank are routed to a vapor recovery system or a flare, assume the capture efficiency of the vapor recovery system or a flare is 0 percent. A thief hatch is open if it is fully or partially open such there is a visible gap between the hatch cover and the hatch portal. To calculate vented emissions during such periods, multiply the average hourly vented emissions rate determined in paragraph (j)(4)(i)(A) of this section by the number of hours that the thief hatch is open. Determine the number of hours that the thief hatch is open as specified in paragraph (j)(7) of this section.”

p. On page 42258, beginning in the second column, paragraph (j)(5)(i) introductory text is corrected to read:

“(i) If a parametric monitor is operating on a controlled atmospheric pressure storage tank or gas-liquid separator, you must use data obtained from the parametric monitor to determine periods when the gas-liquid separator liquid dump valve is stuck in an open or partially open position. An applicable operating parametric monitor must be capable of logging data whenever a gas-liquid separator liquid dump valve is stuck in an open or partially open position, as well as when the gas-liquid separator liquid dump valve is subsequently closed. If an applicable parametric monitor is not operating, including during periods of time when the parametric monitor is malfunctioning, you must perform an audio, visual, and olfactory inspection of each gas-liquid separator liquid dump valve to determine if the valve is stuck in an open or partially open position, in accordance with paragraphs (j)(5)(i)(A) and (B) of this section.”

q. On page 42259, in the first column, paragraph (j)(5)(i)(B) is corrected to read:

“(B) If stuck gas-liquid separator liquid dump valve is identified, the dump valve must be counted as being open since the beginning of the calendar year, or from the previous audio, visual, and olfactory inspection that did not identify the dump valve as being stuck in the open position in the same calendar year. If the dump valve is fixed following audio, visual, and olfactory inspection, the time period for which the dump valve was stuck open will end upon being repaired. If a stuck dump valve is identified and not repaired, the time period for which the dump valve was stuck open must be counted as having occurred through the rest of the calendar year.”

r. On page 42261, beginning in the first column, paragraphs (n)(1)(ii)(A) and (B) are corrected to read:

“(A) The requirements in § 60.5412b(a)(1) of this chapter, along with the applicable testing requirements in § 60.5413b(b) of this chapter, the applicable continuous compliance requirements in § 60.5415b(f) of this chapter, and the applicable continuous monitoring requirements in § 60.5417b of this chapter. You must also keep the applicable records in § 60.5420b(c)(11) of this chapter.

“(B) The requirements in § 60.5412b(a)(3) of this chapter, the applicable continuous compliance requirements in § 60.5415b(f) of this chapter, and the applicable continuous monitoring requirements in § 60.5417b of this chapter. You must also keep the applicable records in § 60.5420b(c)(11) of this chapter.”

s. On page 42268, beginning in the first column, paragraph (o)(6)(iii) is corrected to read:

“(iii) Using equation W-23 to this section, develop an emission factor for each compressor mode-source combination specified in paragraphs (o)(1)(i)(A) through (C) of this section. These emission factors must be calculated annually and used in equation W-22 to this section to determine volumetric emissions from a centrifugal compressor in the mode- source combinations that were not measured in the reporting year.

Where:

EFs,m = Reporter emission factor to be used in equation W-22 to this section for compressor mode-source combination m, in standard cubic feet per hour. The reporter emission factor must be based on all compressors measured in compressor mode-source combination m in the current reporting year and the preceding two reporting years.

MTs,m,p = Average volumetric gas emission measurement for compressor mode-source combination m, for compressor p, in standard cubic feet per hour, calculated using all volumetric gas emission measurements (MTs,m in equation W-21 to this section) for compressor mode-source combination m for compressor p in the current reporting year and the preceding two reporting years.

Countm = Total number of compressors measured in compressor mode-source combination m in the current reporting year and the preceding two reporting years.

m = Compressor mode-source combination specified in paragraph (o)(1)(i)(A), (B), or (C) of this section.”

t. On page 42271, in the third column, paragraph (p)(4)(ii) is corrected to read:

“(ii) Determine the volumetric flow at standard conditions from the common stack using one of the methods specified in paragraphs (p)(4)(ii)(A) through (F) of this section.

(A) A temporary meter such as a vane anemometer according to methods set forth in § 98.234(b).

(B) Calibrated bagging according to methods set forth in § 98.234(c).

(C) A high volume sampler according to methods set forth in § 98.234(d).

(D) [Reserved]

(E) You may choose to use any of the methods set forth in § 98.234(a)(1) through (3) to screen for emissions. If emissions are detected using one of these specified methods, then you must use one of the methods specified in paragraphs (p)(4)(ii)(A) through (D) of this section. If emissions are not detected using the methods in § 98.234(a)(1) through (3), then you may assume that the volumetric emissions are zero. For the purposes of this paragraph, when using any of the methods in § 98.234(a), emissions are detected whenever a leak is detected according to the method. Acoustic leak detection is only applicable for through-valve leakage and is not applicable for screening a manifolded group of compressor sources.

(F) If one of the screening methods specified in § 98.234(a)(1) through (3) identifies a leak in a manifolded group of reciprocating compressor sources, you may use acoustic leak detection, according to § 98.234(a)(5), to identify the source of the leak. You must use one of the methods specified in paragraphs (p)(4)(ii)(A) through (D) of this section to quantify the emissions from the identified source.”

u. On page 42275, in the second column, paragraph (q)(1)(v)(B) is corrected to read:

“(B) For the components listed in § 98.232(d)(7) that are subject to the equipment leak standards for onshore natural gas processing plants in § 60.5400b or § 60.5401b of this chapter, or an applicable approved state plan or applicable Federal plan in part 62 of this chapter, you must use either of the leak detection methods in § 98.234(a)(1)(iii) or (a)(2)(ii).”

v. On page 42275, in the third column, paragraph (q)(1)(vii)(D) is corrected to read:

“(D) For an onshore petroleum and natural gas production facility electing to conduct leak detection surveys according to paragraph (q)(1)(iv) of this section, a survey of all required components at a single well-pad site, as defined in § 98.238, will be considered a complete leak detection survey for purposes of this section.”

w. On page 42276, in the second column, paragraph (q)(1)(vii)(G) is corrected to read:

“(G) For natural gas distribution facilities that choose to conduct equipment leak surveys at all above grade transmission-distribution transfer stations over multiple years as provided in paragraph (q)(1)(viii) of this section, a survey of all required components at the above grade transmission-distribution transfer stations monitored during the calendar year will be considered a complete leak detection survey for purposes of this section.”

x. On page 42276, beginning in the first column, parameters “k” and “GHGi” of equation W-30 in paragraph (q)(2) introductory text are corrected to read:

“k = Factor to adjust for undetected leaks by respective leak detection method, where k equals 1.25 for the methods in § 98.234(a)(1), (3) and (5); k equals 1.55 for the method in § 98.234(a)(2)(i); and k equals 1.27 for the method in § 98.234(a)(2)(ii).

GHGi = For onshore petroleum and natural gas production facilities and onshore petroleum and natural gas gathering and boosting facilities, concentration of GHGi, CH4 or CO2, in produced natural gas as defined in paragraph (u)(2) of this section; for onshore natural gas processing facilities, concentration of GHGi, CH4 or CO2, in the total hydrocarbon of the feed natural gas; for onshore natural gas transmission compression and underground natural gas storage, GHGi equals 0.975 for CH4 and 1.1 × 10⁻² for CO2 or concentration of GHGi, CH4 or CO2, in the total hydrocarbon of the feed natural gas; for LNG storage and LNG import and export equipment, GHGi equals 1 for CH4 and 0 for CO2; and for natural gas distribution and onshore natural gas transmission pipeline, GHGi equals 1 for CH4 and 1.1 × 10⁻² for CO2.”

y. On page 42277, in the second column, parameter “n” of equation W-31 in paragraph (q)(2)(x)(A) is corrected to read:

“n = Number of years of data, according to paragraph (q)(1)(viii) of this section, whose results are used to calculate emission factor “EFs,MR,i” according to paragraph (q)(2)(x)(B) of this section.”

z. On page 42278, in the second column, paragraph (q)(3)(vii) is corrected to read:

“(vii) Multiply the total CO2 and CH4 mass emissions by survey method and component type determined in paragraph (q)(3)(vi) of this section by the survey specific value for “k”, the factor adjustment for undetected leaks, where k equals 1.25 for the methods in § 98.234(a)(1), (3) and (5); k equals 1.55 for the method in § 98.234(a)(2)(i); and k equals 1.27 for the method in § 98.234(a)(2)(ii).”

aa. On page 42278, in the third column, paragraph (q)(3)(viii)(B) is corrected to read:

“(B) If you chose to conduct equipment leak surveys at all above grade transmission-distribution transfer stations over multiple years, “n,” according to paragraph (q)(1)(viii) of this section, you must use the meter/regulator run population emission factors calculated according to paragraph (q)(3)(viii)(A) of this section and the total count of all meter/regulator runs at above grade transmission-distribution transfer stations to calculate emissions from all above grade transmission-distribution transfer stations using equation W-32B to this section.”

bb. On page 42278, in the third column, paragraph (q)(4)(i) introductory text is corrected to read:

“(i) You must track the leak measurements made separately for each of the applicable components listed in paragraphs (q)(1)(i) through (vi) of this section and by the leak detection method according to the following three bins.”

cc. On page 42279, in the first column, the parameter “Es,MR,i” of equation W-32B in paragraph (r) introductory text is corrected to read:

“Es,MR,i = Annual volumetric emissions of GHGi from all meter/regulator runs at above grade metering regulating stations that are not above grade transmission-distribution transfer stations or, when used to calculate emissions according to paragraph (q)(2)(xi) or (q)(3)(viii)(B) of this section, the annual volumetric emissions of GHGi from all meter/regulator runs at above grade transmission-distribution transfer stations.”

dd. On page 42279, in the second column, the parameter “CountMR” of equation W-32B in paragraph (r) introductory text is corrected to read:

CountMR = Total number of meter/regulator runs at above grade metering-regulating stations that are not above grade transmission-distribution transfer stations or, when used to calculate emissions according to paragraph (q)(2)(xi) or (q)(3)(viii)(B) of this section, the total number of meter/regulator runs at above grade transmission-distribution transfer stations.

ee. On page 42280, in the third column, paragraph (s)(2)(i) is corrected to read:

“(i) Use the most recent monitoring and calculation methods published by BOEM as referenced in 30 CFR 550.302 through 304 to calculate annual emissions for any reporting year that overlaps with a BOEM emissions inventory year and any other reporting year in which the facility has the data needed to use BOEM's emissions calculation methods.”

ff. On page 42284, in the second column, paragraph (z)(2)(i)(B) is corrected to read:

“(B) The natural gas must have a maximum higher heating value of 1,100 Btu per standard cubic foot.”

2. Effective January 1, 2025, in § 98.236:

a. On page 42295, in the third column, paragraph (b) introductory text is corrected to read:

“(b) Natural gas pneumatic devices. You must indicate whether the facility contains the following types of equipment: Continuous high bleed natural gas pneumatic devices, continuous low bleed natural gas pneumatic devices, and intermittent bleed natural gas pneumatic devices. If the facility contains any continuous high bleed natural gas pneumatic devices, continuous low bleed natural gas pneumatic devices, or intermittent bleed natural gas pneumatic devices, then you must report the information specified in paragraphs (b)(1) through (6) of this section, as applicable. You must report the information specified in paragraphs (b)(1) through (6) of this section, as applicable, for each well-pad site (for onshore petroleum and natural gas production), each gathering and boosting site (for onshore petroleum and natural gas gathering and boosting), or facility (for all other applicable industry segments).”

b. On page 42297, in the first column, paragraph (b)(5)(i)(A) is corrected:

“(A) Indicate whether you measured emissions according to § 98.233(a)(3)(i)(A) or used default emission factors according to § 98.233(a)(3)(i)(B) to calculate emissions from your continuous high bleed and continuous low bleed natural gas pneumatic devices vented directly to the atmosphere at this well-pad site, gathering and boosting site, or facility, as applicable.”

c. On page 42297, in the first column, paragraph (b)(5)(ii)(C) is corrected to read:

“(C) Average time the intermittent bleed natural gas pneumatic devices were in service (i.e., supplied with natural gas) and assumed to be malfunctioning in the calendar year (average value of “Tmal,z” in equation W-1C to § 98.233).”

d. On page 42298, in the first column, paragraphs (c)(4)(vi) and (vii) are corrected to read:

“(vi) Annual CO2 emissions, in metric tons CO2, cumulative for all natural gas driven pneumatic pumps for which emissions were directly measured and calculated as specified in § 98.233(c)(2)(ii) through (vi). Enter 0 if emissions from none of the natural gas driven pneumatic pumps at this well-pad site or gathering and boosting site were measured during the reporting year.

“(vii) Annual CH4 emissions, in metric tons CH4, cumulative for all natural gas driven pneumatic pumps for which emissions were directly measured and calculated as specified in § 98.233(c)(2)(ii) through (vi). Enter 0 if emissions from none of the natural gas driven pneumatic pumps at this well-pad site or gathering and boosting site were measured during the reporting year.”

e. On page 42298, beginning in the first column, paragraph (c)(4)(viii) is corrected to read:

“(viii) Annual CO2 emissions, in metric tons CO2, cumulative for all natural gas driven pneumatic pumps for which emissions were calculated according to § 98.233(c)(2)(vii)(B) through (D). Enter 0 if emissions from all natural gas driven pneumatic pumps at this well-pad site or gathering and boosting site were measured during the reporting year.”

f. On page 42300, in the third column, paragraph (e)(1)(xvi)(C) is corrected to read:

“(C) Annual CH4 emissions, in metric tons CH4, from the flash tank when not routed to a flare or regenerator firebox/fire tubes, calculated according to § 98.233(e)(1) and, if applicable, (e)(4).”

g. On page 42301, beginning in the third column, paragraph (e)(3)(vi) is corrected to read:

“(vi) For desiccant dehydrators at the facility, well-pad site, or gathering and boosting site identified in paragraph (e)(3)(ii) of this section, whether any dehydrator emissions were routed to a control device that reduces CO2 and/or CH4 emissions other than a vapor recovery system or a flare or a non-flare combustion unit. If any dehydrator emissions were routed to a control device that reduces CO2 and/or CH4 emissions other than a vapor recovery system or a flare or a non-flare combustion unit, then you must specify the type of control device(s) and the total number of dehydrators at the facility that were routed to each type of control device.”

h. On page 42302, in the first column, paragraph (e)(3)(vii)(B) is corrected to read:

“(B) Total volume of gas routed to non-flare combustion units, in standard cubic feet.”

i. On page 42302, in the first column, paragraph (e)(3)(viii)(A) is corrected to read:

“(A) Annual CO2 emissions, in metric tons CO2, for emissions from all desiccant dehydrators reported under paragraph (e)(3)(ii) of this section that are not venting to a flare or non-flare combustion unit, calculated according to § 98.233(e)(3) and, if applicable, (e)(4), and summing for all such dehydrators.”

j. On page 42307, in the first column, paragraph (j)(1)(x)(F) is corrected to read:

“(F) The number of atmospheric pressure storage tanks in paragraph (j)(1)(x)(D) or (E) of this section that had an open thief hatch at some point during the year while the storage tank was also routing emissions to a vapor recovery system and/or a flare.”

k. On page 42309, in the second column, paragraph (l)(3)(iii) is corrected to read:

“(iii) Number of well testing days for the tested well in the calendar year. You may delay reporting of this data element if you indicate in the annual report that the well is a wildcat well or delineation well. If you elect to delay reporting of this data element, you must report by the date specified in paragraph (cc) of this section the number of well testing days for the tested well.”

l. On page 42309, in the third column, paragraph (l)(4)(iv) is corrected to read:

“(iv) Average annual production rate for the tested well, in actual cubic feet per day. You may delay reporting of this data element if you indicate in the annual report that the well is a wildcat well or delineation well. If you elect to delay reporting of this data element, you must report by the date specified in paragraph (cc) of this section the measured average annual production rate for the tested well.”

m. On page 42310, in the second column, paragraph (m)(7)(iii) is corrected to read:

“(iii) Indicate whether associated gas streams vented from the well were measured with a continuous gas composition analyzer.”

n. On page 42311, in the third column, paragraph (n)(14) is corrected to read:

“(14) Annual average mole fraction of CH4 in the feed gas to the flare if you measure composition of the inlet gas as specified in § 98.233(n)(4)(i) or (ii) (“XCH4” in equation W-19 to § 98.233), or the annual average CH4 mole fractions for each stream if you determine composition of each stream routed to the flare as specified in § 98.233(n)(4)(iii).”

o. On page 42315, in the first column, paragraph (q)(2)(iv) is corrected to read:

“(iv) Emission factor or measurement method used (e.g., default emission factor; facility-specific emission factor developed according to § 98.233(q)(4); or direct measurement according to § 98.233(q)(3)).”

p. On page 42317, beginning in the third column, paragraph (z)(2) introductory text is corrected to read:

“(2) Indicate whether the combustion units include: External fuel combustion units with a rated heat capacity greater than 5 million Btu per hour; internal fuel combustion units that are not compressor-drivers, with a rated heat capacity greater than 1 million Btu per hour (or the equivalent of 130 horsepower); or, internal fuel combustion units of any heat capacity that are compressor-drivers. For each type of combustion unit at your facility, you must report the information specified in paragraphs (z)(2)(i) through (iv) and (z)(2)(viii) through (x) of this section, except for internal fuel combustion units that are not compressor-drivers, with a rated heat capacity greater than 1 million Btu per hour (or the equivalent of 130 horsepower) or internal fuel combustion units of any heat capacity that are compressor-drivers that combust natural gas meeting the criteria in § 98.233(z)(1) or (2) or a fuel meeting the criteria in § 98.233(z)(3), which must report the information specified in paragraphs (z)(2)(i) through (x) of this section. Information must be reported for each combustion unit type, fuel type, and method for determining the CH4 emission factor combination, as applicable.”

q. On page 42318, in the third column, paragraph (aa)(3) introductory text is corrected to read:

“(3) For natural gas processing, if your facility fractionates NGLs and also reported as a supplier to subpart NN of this part under the same e-GGRT identification number in the calendar year, you must report the information specified in paragraphs (aa)(3)(ii) and (aa)(3)(v) through (ix) of this section. Otherwise, report the information specified in paragraphs (aa)(3)(i) through (ix) of this section.”

Correcting Amendments Effective October 4, 2024

For reasons stated in the preamble, 40 CFR part 98 is amended by making the following correcting amendments:

PART 98—MANDATORY GREENHOUSE GAS REPORTING

1. The authority citation for part 98 continues to read as follows:

Authority: 42 U.S.C. 7401-7671q.

2. Effective October 4, 2024, amend § 98.233 by:

a. Revising paragraph (a)(3)(ii)(A);

b. Revising equations W-10A and W-10B of paragraph (g); and

c. Revising paragraph (q)(3)(vii).

The revisions read as follows:

§ 98.233 Calculating GHG emissions.

* * * * *

(a) * * *

(3) * * *

(ii) * * *

(A) You must use one of the monitoring methods specified in § 98.234(a)(1) through (3), (6), and (7) except that the monitoring dwell time for each device vent must be at least 2 minutes or until a malfunction is identified, whichever is shorter. A device is considered malfunctioning if any leak is observed when the device is not actuating or if a leak is observed for more than 5 seconds, or the extended duration as specified in paragraph (a)(3)(ii)(C) of this section if applicable, during a device actuation. If you cannot tell when a device is actuating, any observed leak from the device indicates a malfunctioning device.

* * * * *

(g) * * *

* * * * *

(q) * * *

(3) * * *

(vii) Multiply the total CO2 and CH4 mass emissions by survey method and component type determined in paragraph (q)(3)(vi) of this section by the survey specific value for “k”, the factor adjustment for undetected leaks, where k equals 1.25 for the methods in § 98.234(a)(1), (3), (5), and (6); k equals 1.55 for the method in § 98.234(a)(2); and k equals 1.27 for the method in § 98.234(a)(7).

* * * * *

3. Effective October 4, 2024, amend § 98.236 by revising paragraph (b)(5)(ii)(C) to read as follows

§ 98.236 Data reporting requirements.

* * * * *

(b) * * *

(5) * * *

(ii) * * *

(C) Average time the intermittent bleed natural gas pneumatic devices were in service (i.e., supplied with natural gas) and assumed to be malfunctioning in the calendar year (average value of “Tmal,z” in equation W-1C to § 98.233).

* * * * *

Joseph Goffman,
Assistant Administrator, Office of Air and Radiation.

[FR Doc. 2024-18933 Filed 9-3-24; 8:45 am]

BILLING CODE 6560-50-P